DEPARTMENT OF LABOR

Employment and Training Administration

[TA-W-64,908]

Genmar Minnesota, Inc., a Subsidiary of Genmar Holdings, Inc.; Little Falls, MN; Notice of Termination of Investigation

In accordance with Section 221 of the Trade Act of 1974, as amended, an investigation was initiated on January 15, 2009 in response to a petition filed by the Minnesota state TAA Coordinator on behalf of workers of Genmar Minnesota, Inc., a subsidiary of Genmar Holdings Inc., Little Falls, Minnesota.

The petitioner has requested that the petition be withdrawn. Consequently, the investigation has been terminated.

Signed in Washington, DC, this 17th day of March, 2009.
Richard Church,
Certifying Officer, Division of Trade Adjustment Assistance.

[FR Doc. E9-7129 Filed 3-30-09; 8:45 am]

BILLING CODE 4510-FN-P